DEPARTMENT OF THE INTERIOR

Fish and Wildlife Service

[Docket No. FWS-HQ-IA-2015-0162; FXIA16710900000-156-FF09A30000]

Endangered Species; Marine Mammals; Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA) and Marine Mammal Protection Act (MMPA).

ADDRESSES: Brenda Tapia, U.S. Fish and Wildlife Service, Division of Management Authority, Branch of Permits, MS: IA, 5275 Leesburg Pike, Falls Church, VA 22041; fax (703) 358-2281.

FOR FURTHER INFORMATION CONTACT: Brenda Tapia, (703) 358-2104 (telephone); (703) 358-2281 (fax).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

Endangered Species
Permit No. | Applicant | Receipt of application Federal Register notice | Permit issuance date
54794B | Tanganyika Wildlife Park | 80 FR 33541; June 12, 2015 | October 19, 2015.
68842B | Monty David | 80 FR 39795; July 10, 2015 | August, 12, 2015.
06588B | Frank Buck Zoo | 80 FR 39795; July 10, 2015 | October 30, 2015.
70086B | Timothy Twietmeyer | 80 FR 43790; July 23, 2015 | September 1, 2015.
59836B | The Wild Animal Sanctuary | 80 FR 47947; August 10, 2015 | October 13, 2015.
59837B | The Wild Animal Sanctuary | 80 FR 47947; August 10, 2015 | October 13, 2015.
669467 | Utica Zoo | 80 FR 51299; August 24, 2015 | October 15, 2015.
73254B | William Mathers | 80 FR 51299; August 24, 2015 | October 5, 2015.
68861B | San Diego Zoo | 80 FR 51299; August 24, 2015 | October 30, 2015.

Marine Mammals
Permit No. | Applicant | Receipt of application Federal Register notice | Permit issuance date
225854 | Tom Smith | 80 FR 16694; March 30, 2015 | 08/24/2015.
61681B | Florian Schulz | 80 FR 46042; August 3, 2015 | 09/11/2015.

Availability of Documents

Documents and other information submitted with these applications are available for review, subject to the requirements of the Privacy Act and Freedom of Information Act, by any party who submits a written request for a copy of such documents to: U.S. Fish and Wildlife Service, Division of Management Authority, Branch of Permits, MS: IA, 5275 Leesburg Pike, Falls Church, VA 22041; fax (703) 358-2281.

Brenda Tapia,
Program Analyst/Data Administrator, Branch of Permits, Division of Management Authority.

[FR Doc. 2015-28781 Filed 11-12-15; 8:45 am]

BILLING CODE 4333-15-P